DEPARTMENT OF HEALTH AND HUMAN SERVICES

Substance Abuse and Mental Health Services Administration

Notice of Meeting

AGENCY: Center for Substance Abuse Prevention, Substance Abuse and Mental Health Services Administration, HHS.

Pursuant to Public Law 92-463, notice is hereby given that the Substance Abuse and Mental Health Services Administration's (SAMHSA) Center for Substance Abuse Prevention (CSAP) Drug Testing Advisory Board (DTAB) will meet on July 26 and July 27, 2016. The DTAB will convene in both open and closed sessions over these two days.

On July 26, 2016 from 9:00 a.m. to 5:00 p.m. EDT, the meeting will be open to the public to provide an update on the status of the Mandatory Guidelines for Federal Workplace Drug Testing Programs for urine and oral fluid. A description of technical issues associated with hair testing will also be provided.

The public is invited to attend the open session in person or to listen via web conference. Due to the limited seating space and call-in capacity, registration is requested. Public comments are welcome. To register, make arrangements to attend, obtain the teleconference call-in numbers and access codes, submit written or brief oral comments, or request special accommodations for persons with disabilities, please register at the SAMHSA Advisory Committees' Web site at http://nac.samhsa.gov/Registration/meetingsRegistration.aspx or contact the CSAP DTAB Designated Federal Official, Brian Makela (see contact information below).

On July 27, 2016 between 9:00 a.m. and 2:00 p.m. E.D.T., the Board will meet in closed session to discuss proposed revisions to the Mandatory Guidelines for Federal Workplace Drug Testing Programs. This portion of the meeting is closed to the public as determined by the Administrator, SAMHSA, in accordance with 5 U.S.C. 552b(c)(9)(B) and 5 U.S.C. App. 2, Section 10(d).

Substantive program information, a summary of the meeting, and a roster of DTAB members may be obtained as soon as possible after the meeting by accessing the SAMHSA Advisory Committees Web site, http://www.nace.samhsa.gov/MeetingList.aspx, or by contacting Brian Makela. The transcript for the open meeting will also be available on the SAMHSA Committee Web site within three weeks after the meeting.

Committee Name: Substance Abuse and Mental Health Services Administration's Center for Substance Abuse Prevention, Drug Testing Advisory Board.

Dates/Time/Type: July 26, 2016 from 9:00 a.m. to 5:00 p.m. E.D.T.: OPEN; July 27, 2016 from 9:00 a.m. to 2:00 p.m. E.D.T.: CLOSED.

Place: 7500 Old Georgetown Rd., Bethesda, Maryland 20814.

Contact: Brian Makela, Designated Federal Official, CSAP Drug Testing Advisory Board, 5600 Fishers Lane, Room 16N02B, Rockville, Maryland 20857, Telephone: 240-276-2600, Email: brian.makela@samhsa.hhs.gov.

Summer King,
Statistician.

[FR Doc. 2016-16358 Filed 7-8-16; 8:45 am]

BILLING CODE 4162-20-P